DEPARTMENT OF AGRICULTURE

Animal and Plant Health Inspection Service

[Docket No. APHIS-2014-0062]

Privacy Act of 1974; System of Records; Delay of Effective Date

AGENCY: Animal and Plant Health Inspection Service (APHIS), U.S. Department of Agriculture (USDA).

ACTION: Notice of a modified system of records; delay of effective date.

SUMMARY: This document delays the effective date of the January 10, 2025, modified system of records notice, titled “Smuggling Interdiction and Trade Compliance (SITC) National Information Communication Activity System (SNICAS), USDA/APHIS-21,” in accordance with the memorandum of January 20, 2025, from the President titled, “Regulatory Freeze Pending Review”. The effective date of the exemptions in the notice are delayed until April 11, 2025. The notice modified the system to exempt it from certain provisions of the Privacy Act.

DATES: As of February 7, 2025, the effective date for the exemptions in the modified system of records notice published on January 10, 2025 (90 FR 1940), are delayed until April 11, 2025.

FOR FURTHER INFORMATION CONTACT: Mr. Ricardo Valdez, Pest Exclusion and Import Programs, National Policy Manager, SITC, PPQ, APHIS, 4700 River Road, Riverdale, MD 20737; (443) 745-7931; SITC.Mail@usda.gov.

SUPPLEMENTARY INFORMATION: In accordance with the memorandum of January 20, 2025, from the President to executive departments and agencies titled, “Regulatory Freeze Pending Review,” ¹ this action delays the effective date of exemptions in the modified system of records notice, titled “Smuggling Interdiction and Trade Compliance (SITC) National Information Communication Activity System (SNICAS), USDA/APHIS-21,” published in the Federal Register on January 10, 2025 (90 FR 1940-1941; APHIS-2014-0062).²

¹ Available at https://www.whitehouse.gov/presidential-actions/2025/01/regulatory-freeze-pending-review/.

² To view the notice, go to www.regulations.gov, and enter APHIS-2014-0062 in the Search field.

The SNICAS system of records maintains a record of activities conducted by the agency pursuant to its mission and responsibilities authorized by the Plant Protection Act (7 U.S.C. 7701 et seq.); the Animal Health Protection Act (7 U.S.C. 8301 et seq.); and the Honey Bee Act (7 U.S.C. 281 et seq.). The purpose of the system is to record data and information about APHIS' SITC activities nationwide. SITC is within APHIS' Plant Protection and Quarantine program.

SITC officials use the information in SNICAS to identify and close pathways used for the introduction of prohibited commodities and those regulated commodities that lack the necessary certificates and permits to enter U.S. commerce. SITC officials also use SNICAS to perform activities such as legal and regulatory actions; scientific research; risk, trend, pathway and targeting analyses; trade support; administrative and budgetary support; supervision and program management; and overall decision support services. Additionally, SITC officials use SNICAS to generate reports to evaluate the risk status of the commercial sites where regulated commodities are seized, the effectiveness of the program, and quality control of the data.

APHIS will share information from the system pursuant to the requirements of the Privacy Act and, in the case of its routine uses, when the disclosure is compatible with the purpose for which the information was compiled. However, the notice allowed for the exemption of specific records in the system from certain Privacy Act requirements in accordance with 5 U.S.C. 552a(k)(2) (Investigative Law Enforcement Materials). APHIS exempted the system from Privacy Act access requirements including 5 U.S.C. 552a(c)(3); (d); (e)(1); (e)(4)(G), (H), and (I); and (f), and indicated that an individual who is the subject of a record in this system may not seek access to those records that are exempt from the access provisions. A determination of whether a record may be accessed would be made at the time a request is received.

In this issue of the Federal Register, we are also publishing a delay of effective date for the final rule associated with this action.³

³ To view the final rule's delay of effective date, go to www.regulations.gov, and enter APHIS-2015-0008 in the Search field.

Done in Washington, DC, this 6th day of February 2025.
Michael Watson,
Administrator, Animal and Plant Health Inspection Service.

[FR Doc. 2025-02484 Filed 2-7-25; 8:45 am]

BILLING CODE 3410-34-P